FEDERAL TRADE COMMISSION

16 CFR Part 305

[3084-AB15]

Energy Labeling Rule

AGENCY: Federal Trade Commission (“FTC” or “Commission”).

ACTION: Reopening of comment period.

SUMMARY: The Commission is reopening the comment period of its January 9, 2013 Notice of Proposed Rulemaking (NPRM) until April 1, 2013.

DATES: Comments must be received by April 1, 2013.

ADDRESSES: Interested parties may file a comment online or on paper by following the instructions in the SUPPLEMENTARY INFORMATION section below. Write “Energy Label Ranges, Matter No. R611004” on your comment, and file your comment online at https://ftcpublic.commentworks.com/ftc/energylabelranges by following the instructions on the web-based form. If you prefer to file your comment on paper, mail or deliver your comment to the following address: Federal Trade Commission, Office of the Secretary, Room H-113 (Annex U), 600 Pennsylvania Avenue NW., Washington, DC 20580.

FOR FURTHER INFORMATION CONTACT: Hampton Newsome, (202) 326-2889, Attorney, Division of Enforcement, Bureau of Consumer Protection, Federal Trade Commission, Room M-8102B, 600 Pennsylvania Avenue NW., Washington, DC 20580.

SUPPLEMENTARY INFORMATION: The Commission is reopening the comment period for its January 9, 2013 (78 FR 1779) Notice of Proposed Rulemaking (NPRM) until April 1, 2013. In the NPRM, the Commission proposed to amend the Energy Labeling Rule (“Rule”) (16 CFR part 305) by updating ranges of comparability and unit energy cost figures for many EnergyGuide labels. The Commission also sought comment on a proposed exemption request by the Association of Home Appliance Manufacturers (AHAM) to help consumers compare the labels on refrigerators and clothes washers after the implementation of upcoming changes to the Department of Energy test procedures for those products. On March 7, 2013, the California Investor Owned Utilities (CA IOUs), citing unforeseeable circumstances that prevented the group from filing comments by the March 1, 2013 deadline, petitioned the Commission to reopen the comment period for the Proposed Rule for the Appliance Labeling Rule. In response, the Commission reopens the comment period to April 1, 2013. This action is reasonable for it will help ensure a full record in the proceeding and should not unduly delay this proceeding.

Interested parties are invited to submit written comments electronically or in paper form. Comments should refer to “Energy Label Ranges, Matter No. R611004” to facilitate the organization of comments. Please note that your comment, including your name and your state, will be placed on the public record of this proceeding, including on the publicly accessible FTC Web site, at http://www.ftc.gov/os/publiccomments.shtm.

Because comments will be made public, they should not include any sensitive personal information, such as any individual's Social Security Number; date of birth; driver's license number or other state identification number, or foreign country equivalent; passport number; financial account number; or credit or debit card number. Comments also should not include any sensitive health information, such as medical records or other individually identifiable health information. In addition, comments should not include trade secret or any commercial or financial information which is obtained from any person and which is privileged or confidential as provided in Section 6(f) of the Federal Trade Commission Act (FTC Act, 15 U.S.C. 46(f)), and FTC Rule 4.10(a)(2) (16 CFR 4.10(a)(2)). Comments containing matter for which confidential treatment is requested must be filed in paper form, must be clearly labeled Confidential, and must comply with FTC Rule 4.9(c).

Because paper mail addressed to the FTC is subject to delay due to heightened security screening, please consider submitting your comments in electronic form. Comments filed in electronic form should be submitted using the following weblink: https://ftcpublic.commentworks.com/ftc/energylabelranges (and following the instructions on the web-based form). To ensure that the Commission considers an electronic comment, you must file it on the web-based form at the weblink https://ftcpublic.commentworks.com/ftc/energylabelranges. If this Notice appears at http://www.regulations.gov/#!home, you may also file an electronic comment through that Web site. The Commission will consider all comments that regulations.gov forwards to it. You may also visit the FTC Web site at http://www.ftc.gov to read the Notice and the news release describing it.

A comment filed in paper form should include the Energy Label Ranges, Matter No. R611004 reference both in the text and on the envelope, and should be mailed or delivered to the following address: Federal Trade Commission, Office of the Secretary, Room H-135 (Annex U), 600 Pennsylvania Avenue NW., Washington, DC 20580. The FTC is requesting that any comment filed in paper form be sent by courier or overnight service, if possible, because U.S. postal mail in the Washington area and at the Commission is subject to delay due to heightened security precautions.

The FTC Act and other laws that the Commission administers permit the collection of public comments to consider and use in this proceeding as appropriate. The Commission will consider all timely and responsive public comments that it receives, whether filed in paper or electronic form. Comments received will be available to the public on the FTC Web site, to the extent practicable, at http://www.ftc.gov/os/publiccomments.shtm. As a matter of discretion, the FTC makes every effort to remove home contact information for individuals from the public comments it receives before placing those comments on the FTC Web site. More information, including routine uses permitted by the Privacy Act, may be found in the FTC's privacy policy, at http://www.ftc.gov/ftc/privacy.htm.

By direction of the Commission.
Richard C. Donahue,
Acting Secretary.

[FR Doc. 2013-06894 Filed 3-25-13; 8:45 am]

BILLING CODE 6750-01-P